ENVIRONMENTAL PROTECTION AGENCY

40 CFR Part 52

[EPA-R04-OAR-2005-NC-0004-200704(b); FRL-8465-5]

Approval and Promulgation of Implementation Plans; North Carolina: Mecklenburg County Regulations

AGENCY: Environmental Protection Agency (EPA).

ACTION: Proposed rule.

SUMMARY: EPA is proposing to approve revisions to the North Carolina State Implementation Plan (SIP). On February 16, 2005, the North Carolina Department of Environment and Natural Resources submitted revisions to the Mecklenburg County Air Pollution Control Ordinance (MCAPCO), to be incorporated into the Mecklenburg County portion of the North Carolina SIP. The revisions include changes to MCAPCO 2.0902, “Applicability,” and 2.0933, “Petroleum Liquid Storage in External Floating Roof Tanks.” These changes were made to maintain consistency with State and federal regulations, and are part of Mecklenburg County's strategy to attain and maintain the 8-hour ozone National Ambient Air Quality Standard, by reducing precursors to ozone. In the Final Rules Section of this Federal Register, the EPA is approving North Carolina's SIP revision as a direct final rule without prior proposal because the Agency views this as a noncontroversial submittal and anticipates no adverse comments. A detailed rationale for the approval is set forth in the direct final rule. If adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before October 12, 2007.

ADDRESSES: Submit your comments, identified by Docket ID No. EPA-R04-OAR-2005-NC-0004, by one of the following methods:

1. www.regulations.gov: Follow the on-line instructions for submitting comments.

2. E-mail: hou.james@epa.gov.

3. Fax: (404) 562-9019.

4. Mail: “EPA-R04-OAR-2005-NC-0004,” Regulatory Development Section, Air Planning Branch, Air, Pesticides and Toxics Management Division, U.S. Environmental Protection Agency, Region 4, 61 Forsyth Street, SW., Atlanta, Georgia 30303-8960.

5. Hand Delivery or Courier: James Hou, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays. Please see the direct final rule which is located in the Rules section of this Federal Register for detailed instructions on how to submit comments.

FOR FURTHER INFORMATION CONTACT: James Hou, Regulatory Development Section, Air Planning Branch, Air, Pesticides and Toxics Management Division, U.S. Environmental Protection Agency, Region 4, 61 Forsyth Street, SW., Atlanta, Georgia 30303-8960. The telephone number is (404) 562-8965. Mr. Hou can also be reached via electronic mail at hou.james@epa.gov.

SUPPLEMENTARY INFORMATION: For additional information see the direct final rule which is published in the Rules Section of this Federal Register.

Dated: August 27, 2007.
Russell L. Wright, Jr.,
Acting Regional Administrator, Region 4.

[FR Doc. E7-17780 Filed 9-11-07; 8:45 am]

BILLING CODE 6560-50-P